DEPARTMENT OF COMMERCE

National Oceanic and Atmospheric Administration

Agency Information Collection Activities; Submission to the Office of Management and Budget (OMB) for Review and Approval; Comment Request; West Coast Groundfish Trawl Logbook

AGENCY: National Oceanic & Atmospheric Administration (NOAA), Commerce.

ACTION: Notice of information collection, request for comment.

SUMMARY: The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on March 31, 2025 (90 FR 14252), during a 60-day comment period. This notice allows for an additional 30 days for public comments.

DATES: To ensure consideration, comments regarding this proposed information collection must be received on or before October 20, 2025.

ADDRESSES: Interested persons are invited to submit written comments to Adrienne Thomas, NOAA PRA Officer, at NOAA.PRA@noaa.gov. Please reference OMB Control Number 0648-0782 in the subject line of your comments. Do not submit Confidential Business Information or otherwise sensitive or protected information.

FOR FURTHER INFORMATION CONTACT: Requests for additional information or specific questions related to collection activities should be directed to Keeley Kent, National Marine Fisheries Service, 7600 Sand Point Way NE, Bldg. 1, Seattle, WA 98115-6349, by phone at (206) 526-4655 or by email at Keeley.Kent@noaa.gov.

SUPPLEMENTARY INFORMATION:

I. Abstract

This request is for a revision and extension of a current information collection.

The success of fisheries management programs depends significantly on the availability of fishery data. As part of this fishery data, the National Marine Fisheries Service (NMFS) requires groundfish fishermen in the trawl and non-trawl fisheries to complete a logbook (see 50 CFR 660.13). The logbook used is a standard format developed by the Pacific Fishery Management Council to collect information necessary to effectively manage the fishery on a coast-wide basis. The logbook collects haul or set-level effort data including time, location, gear type, target strategy, and estimated pounds of fish caught per set. Each logbook entry represents a single fishing trip.

NMFS contracts with the Pacific States Marine Fisheries Commission (PSMFC) to distribute and collect the logbook data. These data are used regularly by NMFS, the Council, the West Coast Groundfish Observer Program, NMFS Office of Law Enforcement, and the Coast Guard for fisheries management and enforcement.

Previously, the trawl logbook and non-trawl logbook information collections were separate, this revision would merge the non-trawl logbook information collection from 0648-0804 into the trawl logbook information collection. OMB Control Number 0648-0804 be discontinued upon approval of the revision to 0648-0782.

II. Method of Collection

The non-trawl logbook is a fully electronic collection utilizing an application operated by PSMFC. The trawl logbook has both paper and electronic options, both administered by PSMFC.

III. Data

OMB Control Number: 0648-0782.

Form Number(s): None.

Type of Review: Regular Submission (revision and extension of a currently approved collection).

Affected Public: Business or other for-profit organizations.

Estimated Number of Respondents: 338.

Estimated Time per Response: 0.5 hour for non-trawl form and 8 hours for trawl form.

Estimated Total Annual Burden Hours: 4,552 hours.

Estimated Total Annual Cost to Public: $792.

Respondent's Obligation: Mandatory.

Legal Authority: The regulations at § 660.13(a) specify reporting requirements for trawl and non-trawl logbooks.

IV. Request for Comments

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0782.

Sheleen Dumas,
Departmental PRA Compliance Officer, Office of the Under Secretary for Economic Affairs, Commerce Department.

[FR Doc. 2025-18104 Filed 9-17-25; 8:45 am]

BILLING CODE 3510-22-P